DEPARTMENT OF AGRICULTURE

Forest Service

Windmill Timber Harvest in the Mill Creek Drainage, Gallatin National Forest, Park County, Montana

AGENCY: Forest Service, USDA.

ACTION: Notice, intent to prepare environmental impact statement.

SUMMARY: The Forest Service intents to prepare an environmental impact statement (EIS) to disclose the environmental effects of the Windmill timber harvest and associated activities in the Mill Creek drainage located in the Absaroka/Beartooth Mountain Range, Gallatin National Forest, Livingston Range District, Park County, Montana.

The proposed timber harvest of approximately 5 mmbf from an estimated 650 acres of timbered lands and associated actions including road construction, reconstruction and restoration, prescribed fire and reforestation are being considered together because they represent either connected or cumulative actions as defined by the Council on Environmental Quality (40 CFR 1508.25).

The Windmill Timber Sale is one of 12 project being proposed on the Gallatin National Forest to contribute time volume to assist in the acquisition of four sections of land as directed by the Gallatin Land Consolidation Act of 1998 (PL 105-267). In addition, harvest of this sale would: contribute toward providing a flow of wood products from National Forest lands, proposed road restoration of roads would maintain or improve watershed conditions, proposed prescribed fire would reduce the potential for catastrophic fires, and tree planting in regeneration units would address reforestation.

DATES: Written comments should be received by May 10, 2000.

ADDRESSES: Submit written comments on proposed activities or a request to be placed on the project mailing list to Terri Marceron, District Ranger, Livingston Ranger District, 5245 Highway 89 South, Livingston, Montana, 59047.

FOR FURTHER INFORMATION CONTACT: JT Stangl, Project Leader, Livingston Ranger District, Gallatin National Forest, Phone (406) 222-1892.

SUPPLEMENTARY INFORMATION: The project area consists of National Forest lands located in T6S, R9E, Sec. 10, 11, 14, 15, 19, 23, 24, 25 and 30; and T6S, R10E, Sec 32, 33, 34, and 35 and T7S, R10E Sec 2, 4, and 5, P.M. MT. The majority of activities would occur within the Counts, West Fork, Passage and Colley Creek areas in the Mill Creek drainage. Timber harvest is proposed on land that is designated as suitable for timber management by the Gallatin Forest Plan (USDA 1987). Timber harvest would occur outside of roadless area as designed using Region One protocol. New roads would be effectively closed to vehicle traffic after completion of post-sale activities. The EIS would also analyze the restoration of some existing roads, that are generally not open to motorized public use, to maintain or improve watershed conditions.

The USDA Forest Service, “Report to the Montana Congressional Delegation Proposed Gallatin Land Consolidation” (September 1997) and the Gallatin Forest Plan (USDA 1987) provides the overall guidance for management activities in the potentially affected area through its goals, objectives, standards and guidelines, and management area direction.

Comments from the public and other agencies will be used in preparation of the Draft EIS. The scoping process will be used to: (1) Identify potential issues, (2) Identify issues to be analyzed in depth, (3) Eliminate insignificant issues or those which have been covered by a relevant precious environmental analysis, such as the Gallatin Forest Plan EIS, (4) Identify alternatives to the proposed action, (5) Identify potential environmental effects of the proposed action and alternatives (i.e., direct, indirect, and cumulative effects) and (6) Determine potential cooperating agencies and task assignments. Preliminary issues identified by Forest Service specialist include assessing if proposed activities would effect: threatened and endangered species, sensitive fish, wildlife and plant species, ungulate habitat, Neotropical migratory bird habitat, management indicator species habitat, fragmentation, vegetative structural diversity, soils, water quality, noxious weeds, fire management, visual quality, cultural resources, recreation use special uses, roadless areas, and public safety. This list will be verified, expanded, or modified based on public scoping for this proposal.

Public participation is an important part of the analysis, commencing with the initial scoping process (40 CFR 1501.7). In addition to scoping, the public may visit Forest Service officials at any time during the analysis and prior to the decision. The Forest Service will be seeking information, comments, and assistance from Federal, State, and local agencies and other individual or organizations who may be interested in or affected by the proposed action. No public meetings are scheduled at this time.

The Draft EIS is expected to be filed with the Environmental Protection Agency (EPA) and available for public review in November of 2000. At that time, the EPA will publish a Notice of Availability of the Draft EIS in the Federal Register. The comment period on the Draft EIS will be 45 days from the date the EPA's notice of availability appears in the Federal Register. It is very important that those interested in management of the Mill Creek area participate at that time. The Final EIS is scheduled for completion by the end of March 2001.

The Forest Service believes, at the early stage, it is important to give reviewers notice of several court rulings related to public participation in the environmental review process. First, reviewers of draft environmental impact statements must structure their participation in the environmental review of the proposal so that it is meaningful and alerts in agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 30-day scoping comment period so that substantive comments and objections are made available to the Forest Service at a time when it can meaningfully consider them and respond to them in developing issues and alternatives.

To assist the Forest Service in identifying and considering issues, comments should be a specific to this proposal as possible. Reviewers may wish to refer to the Council on Environmental Quality Regulatory for implementing the procedural provisions of the National Environmental Policy Act at 40 CFR 1503.3 in addressing these points.

I am the responsible official for this environmental impact statement. My address is Gallatin National Forest, P.O. 130, Federal Building, Bozeman, MT 59771.

Dated: May 3, 2000.
Richard Inman,
Acting Forest Supervisor.

[FR Doc. 00-9221 Filed 4-13-00; 8:45 am]

BILLING CODE 3410-11-M